ENVIRONMENTAL PROTECTION AGENCY

40 CFR Part 62

[EPA-R06-OAR-2024-0232; FRL-12425-01-R6]

Approval and Promulgation of State Air Quality Plans for Designated Facilities and Pollutants; Oklahoma; Control of Emissions From Existing Municipal Solid Waste Landfills

AGENCY: Environmental Protection Agency (EPA).

ACTION: Proposed rule.

SUMMARY: Pursuant to the Federal Clean Air Act (CAA or the Act), the Environmental Protection Agency (EPA) is proposing to approve the CAA section 111(d)State plan submitted by the State of Oklahoma for sources subject to the Municipal Solid Waste (MSW) Landfills Emission Guidelines (EG). The Oklahoma MSW landfills plan was submitted to fulfill the State's obligations under CAA section 111(d) to implement and enforce the requirements under the MSW Landfills EG. The EPA is proposing to approve the State plan and amend the agency regulations in accordance with the requirements of the CAA.

DATES: Written comments must be received on or before February 18, 2025.

ADDRESSES: Submit your comments, identified by Docket No. EPA-R06-OAR-2024-0232, at https://www.regulations.gov or via email to gesualdo.matthew@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Matthew Gesualdo, (214) 665-6530, gesualdo.matthew@epa.gov. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Matthew Gesualdo, EPA Region 6 Office, Air and Radiation Division—State Planning and Implementation Branch, (214) 665-6530, gesualdo.matthew@epa.gov. We encourage the public to submit comments via https://www.regulations.gov. Please call or email the contact listed above if you need alternative access to material indexed but not provided in the docket.

SUPPLEMENTARY INFORMATION: Throughout this document wherever “we,” “us,” or “our” is used, we mean the EPA.

I. Background

Section 111 of the CAA, “Standards of Performance for New Stationary Sources,” directs the EPA to establish emission standards for stationary sources of air pollution that could potentially endanger public health or welfare. These standards are referred to as New Source Performance Standards (NSPS). Section 111(d) addresses the process by which the EPA and States regulate standards of performance for existing sources. When NSPS are promulgated for new sources, section 111(d) and EPA regulations require that the EPA publish an Emission Guideline (EG) to regulate the same pollutants from existing facilities. While NSPS are directly applicable to new sources, EG for existing sources (designated facilities) are intended for States to use to develop a State plan to submit to the EPA.

State plan submittal and revisions under CAA section 111(d) must be consistent with the applicable EG and the requirements of 40 CFR part 60, subpart B, and part 62, subpart A. The regulations at 40 CFR part 60, subpart B, contain general provisions applicable to the adoption and submittal of State plans under CAA section 111(d). Additionally, 40 CFR part 62, subpart A, provides the procedural framework by which the EPA will approve or disapprove such plans submitted by a state. Once approved by the EPA, the State plan becomes federally enforceable. If a State does not submit an approvable State plan to the EPA, the EPA is responsible for developing, implementing, and enforcing a federal plan.

The MSW landfills NSPS for new landfills and EG for existing landfills were first promulgated by EPA on March 12, 1996, in 40 CFR part 60, subparts WWW and Cc, respectively (61 FR 9905). On August 29, 2016, the EPA finalized revisions to the MSW landfills NSPS and EG in 40 CFR part 60, subparts XXX and Cf, respectively (81 FR 59332; 81 FR 59313). The 2016 EG revision updates the control requirements and monitoring, reporting, and recordkeeping provisions for existing MSW landfill sources.

The current MSW landfills EG, found at 40 CFR part 60, subpart Cf, concerns the regulation of landfill gas and its components, including methane, from MSW landfills for which construction, reconstruction, or modification was commenced on or before July 17, 2014. The deadline to submit a State plan to the EPA was May 30, 2017. On May 21, 2021, EPA finalized the MSW landfills Federal plan in 40 CFR part 62, subpart OOO (86 FR 27756). The MSW landfills Federal plan at 40 CFR part 62, subpart OOO, applies to States that do not have an EPA-approved State plan. The MSW landfills Federal plan is currently in effect in Oklahoma.

In order to fulfill obligations under CAA section 111(d), the Oklahoma Department of Environmental Quality (ODEQ) submitted a revised State plan for the control of emissions from existing MSW landfills for the State of Oklahoma on April 30, 2024.¹ The Oklahoma MSW landfills plan implements and enforces the applicable provisions under the MSW landfills EG at 40 CFR part 60, subpart Cf, and additionally meets the relevant requirements of the CAA section 111(d) implementing regulations at 40 CFR part 60, subpart B. The Oklahoma submittal and the supplements are included in the public docket for this rulemaking (Docket No. EPA-R06-OAR-2024-0232).

¹ The Oklahoma plan submitted by ODEQ does cover sources located in Indian country with some exclusions.

II. Evaluation

The EPA has evaluated the Oklahoma MSW landfills plan to determine whether the plan meets applicable requirements from the MSW landfills EG at 40 CFR part 60, subpart Cf, and the CAA section 111(d) implementing regulations at 40 CFR part 60, subpart B. The EPA's detailed rationale and discussion on the Oklahoma MSW landfills plan can be found in the EPA Technical Support Document (TSD), located in the docket for this rulemaking.

The State plan submittal package includes all materials necessary to be deemed administratively and technically complete according to the criteria of 40 CFR part 60, subpart B. The State plan document (the “Oklahoma MSW Landfill State Plan”) includes all the necessary authority for the implementation and enforcement of the MSW landfill Emission Guidelines in the State. Specifically, the State appropriately incorporated all applicable EG requirements from 40 CFR part 60, subpart Cf, into the Oklahoma Administrative Code (OAC) 252:100-47, Control of Emissions from Existing Municipal Solid Waste Landfills. Both the adopted State plan document and the relevant OAC regulations, as well as all other relevant plan submittal materials may be found in the docket for this action. Necessary State legal and enforcement authorities required for plan approval are located elsewhere in Oklahoma's statute, rules and regulations and have been reviewed and approved of by the EPA in the course of prior State implementation plan as well as section 111(d) and/or 129 State plan approvals. See 40 CFR part 52, subpart E, and 40 CFR part 62, subpart E.

The Oklahoma MSW landfills plan has been evaluated in detail in the TSD. Our evaluation demonstrates that the Oklahoma MSW landfills plan meets the requirements in 40 CFR part 60, subpart Cf and subpart B, and is consistent with the requirements for an approvable section 111(d) State plans for MSW landfills.

III. Impact on Areas of Indian Country

Following the U.S. Supreme Court decision in McGirt v. Oklahoma, 140 S. Ct. 2452 (2020), the Governor of the State of Oklahoma requested approval under Section 10211(a) of the Safe, Accountable, Flexible, Efficient Transportation Equity Act of 2005: A Legacy for Users, Public Law 109-59, 119 Stat. 1144, 1937 (August 10, 2005) (“SAFETEA”), to administer in certain areas of Indian country (as defined at 18 U.S.C. 1151) the State's environmental regulatory programs that were previously approved by the EPA for areas outside of Indian country. The State's request excluded certain areas of Indian country further described below. In addition, the State only sought approval to the extent that such approval is necessary for the State to administer a program in light of Oklahoma Dept. of Environmental Quality v. EPA, 740 F.3d 185 (D.C. Cir. 2014).²

² In ODEQ v. EPA, the D.C. Circuit held that under the CAA, a state has the authority to implement a SIP in non-reservation areas of Indian country in the state, where there has been no demonstration of Tribal jurisdiction. Under the D.C. Circuit's decision, the CAA does not provide authority to states to implement SIPs in Indian reservations. ODEQ did not, however, substantively address the separate authority in Indian country provided specifically to Oklahoma under SAFETEA. That separate authority was not invoked until the State submitted its request under SAFETEA, and was not approved until EPA's decision, described in this section, on October 1, 2020.

On October 1, 2020, the EPA approved Oklahoma's SAFETEA request to administer all the State's EPA-approved environmental regulatory programs, including the Oklahoma SIP, in the requested areas of Indian country. As requested by Oklahoma, the EPA's approval under SAFETEA does not include Indian country lands, including rights-of-way running through the same, that: (1) qualify as Indian allotments, the Indian titles to which have not been extinguished, under 18 U.S.C. 1151(c); (2) are held in trust by the United States on behalf of an individual Indian or Tribe; or (3) are owned in fee by a Tribe, if the Tribe (a) acquired that fee title to such land, or an area that included such land, in accordance with a treaty with the United States to which such Tribe was a party, and (b) never allotted the land to a member or citizen of the Tribe (collectively “excluded Indian country lands”).³

³ In accordance with Executive Order 13990, EPA is currently reviewing our October 1, 2020, SAFETEA approval. On December 22, 2021, EPA proposed to withdraw and reconsider the October 1, 2020, SAFETEA approval. See https://www.epa.gov/ok/proposed-withdrawal-and-reconsideration-and-supporting-information. EPA expects to have further discussions with Tribal governments and State of Oklahoma as part of this reconsideration. EPA also notes that the October 1, 2020, approval is the subject of a pending challenge in Federal court. Pawnee Nation of Oklahoma v. Regan, No. 20-9635 (10th Cir.). Pending completion of EPA's review, EPA is proceeding with this proposed action in accordance with the October 1, 2020, approval. EPA may make further changes to the approval of Oklahoma's plan to reflect the outcome of the proposed withdrawal and reconsideration of the October 1, 2020 SAFETEA approval. To the extent any change occurs in the scope of Oklahoma's CAA 111(d)/129 authority in Indian country before the finalization of this proposed rule, such a change may affect the scope of the EPA's final action on the proposed rule.

The EPA's approval under SAFETEA expressly provided that to the extent EPA's prior approvals of Oklahoma's environmental programs excluded Indian country, any such exclusions are superseded for the geographic areas of Indian country covered by the EPA's approval of Oklahoma's SAFETEA request.⁴ The approval also provided that future revisions or amendments to Oklahoma's approved environmental regulatory programs would extend to the covered areas of Indian country (without any further need for additional requests under SAFETEA).

⁴ EPA's prior approvals relating to Oklahoma's CAA section 111(d)/129 plans did not apply in areas of Indian country located in the state. See, e.g., 70 FR 57764 (October 4, 2005). Such prior expressed limitations are superseded by the EPA's approval of Oklahoma's SAFETEA request.

As explained earlier in this action, the EPA is proposing to approve the Oklahoma CAA section 111(d) MSW landfill State plan that was submitted by the State of Oklahoma on April 30, 2024. More specifically, we are proposing to approve Oklahoma's MSW landfill plan addressing CAA section 111(d) requirements for MSW under the MSW landfill EG codified at 40 CFR part 60, subpart Cf. The Oklahoma MSW landfill plan applies statewide, but only affects specific types of facilities, as discussed earlier in this document. Consistent with the EPA's October 1, 2020, SAFETEA approval, if this approval is finalized as proposed, this Oklahoma MSW landfill plan will apply to all Indian country within Oklahoma, other than the excluded Indian country lands, as described earlier. EPA has identified multiple existing facilities located within currently recognized reservation areas and not on excluded Indian country lands. These facilities will be subject to the Oklahoma MSW landfill plan we are proposing to approve. Any newly constructed municipal solid waste landfill in these same areas would be subject to the MSW landfill NSPS, not the MSW landfill plan implementing the MSW landfill EG requirements.

IV. Proposed Action

The EPA is proposing to approve the Oklahoma MSW landfill plan submitted by ODEQ in accordance with the requirements of section 111(d) of the CAA and to amend 40 CFR part 62, subpart E, to codify EPA's approval. The EPA is proposing to find that the Oklahoma MSW landfill plan is at least as protective as the Federal requirements provided under the MSW landfills EG, codified at 40 CFR part 60, subpart Cf. Once approved by the EPA, the Oklahoma MSW landfills plan will become federally enforceable.

V. Environmental Justice Considerations

Information on Executive Order 12898 (Federal Actions To Address Environmental Justice in Minority Populations and Low-Income Populations, 59 FR 7629, February 16, 1994), Executive Order 14094 (Revitalizing Our Nation's Commitment to Environmental Justice for All, 88 FR 25251, April 26, 2023), and how EPA defines environmental justice can be found in the section titled “Statutory and Executive Order Reviews” in this proposed rule.⁵ EPA is providing additional analysis of environmental justice associated with this action. The results of this analysis are being provided for informational and transparency purposes, not as a basis of our proposed action.

⁵ See https://www.epa.gov/environmentaljustice/learn-about-environmental-justice.

EPA conducted screening analyses using EJSCREEN, an environmental justice mapping and screening tool that provides EPA with a nationally consistent dataset and approach for combining various environmental and demographic indicators.⁶ The EJSCREEN tool presents these indicators at a Census block group (CBG) level or a larger user-specified “buffer” area that covers multiple CBGs.⁷ An individual CBG is a cluster of contiguous blocks within the same census tract and generally contains between 600 and 3,000 people. EJSCREEN is not a tool for performing in-depth risk analysis, but is instead a screening tool that provides an initial representation of indicators related to environmental justice and is subject to uncertainty in some underlying data (e.g., some environmental indicators are based on monitoring data which are not uniformly available; others are based on self-reported data).⁸ To help mitigate this uncertainty, we have summarized EJSCREEN data within larger “buffer” areas covering multiple block groups and representing the average resident within the buffer areas surrounding the MSW landfills. We present EJSCREEN environmental indicators to help screen for locations where residents may experience a higher overall pollution burden than would be expected for a block group with the same total population. These indicators of overall pollution burden include estimates of ambient particulate matter (PM2.5) and ozone concentration, a score for traffic proximity and volume, percentage of pre-1960 housing units (lead paint indicator), and scores for proximity to Superfund sites, risk management plan (RMP) sites, and hazardous waste facilities.⁹ EJSCREEN also provides information on demographic indicators, including percent low-income, communities of color, linguistic isolation, and less than high school education. The EPA prepared EJSCREEN reports covering buffer areas of approximately 3-mile radii around the existing MSW landfills in Oklahoma. Table 1 presents a summary of results from the EPA's screening-level analysis for the areas surrounding each MSW landfill compared to the U.S. as a whole, where the landfill was located in an area where one or more of the EJ indices were greater than the 80th percentiles (the full, detailed EJSCREEN reports are provided in the docket for this rulemaking).

⁶ The EJSCREEN tool is available at https://www.epa.gov/ejscreen.

⁷ See https://www.census.gov/programs-surveys/geography/about/glossary.html.

⁸ In addition, EJSCREEN relies on the five-year block group estimates from the U.S. Census American Community Survey. The advantage of using five-year over single-year estimates is increased statistical reliability of the data (i.e., lower sampling error), particularly for small geographic areas and population groups. For more information, see https://www.census.gov/content/dam/Census/library/publications/2020/acs/acs_general_handbook_2020.pdf.

⁹ For additional information on environmental indicators and proximity scores in EJSCREEN, see “EJSCREEN Environmental Justice Mapping and Screening Tool: EJSCREEN Technical Documentation,” Chapter 3 and Appendix C (September 2019) at https://www.epa.gov/sites/default/files/2021-04/documents/ejscreen_technical_document.pdf.

Table 1—EJSCREEN Analysis Summary for Existing Oklahoma MSW Landfills With EJ Indices Above 80%tile
Variables | Values for buffer areas (radius) for each MSW landfill and the U.S. (percentile within U.S. where indicated): Enid City Landfill (Garfield, 3 miles) | Values for buffer areas (radius) for each MSW landfill and the U.S. (percentile within U.S. where indicated): Great Plains (Pocasset) Landfill (Grady, 3 miles) | Values for buffer areas (radius) for each MSW landfill and the U.S. (percentile within U.S. where indicated): Ponca City Landfill (Kay, 3 miles) | Values for buffer areas (radius) for each MSW landfill and the U.S. (percentile within U.S. where indicated): Newcastle Landfill (McClain, 3 miles) | Values for buffer areas (radius) for each MSW landfill and the U.S. (percentile within U.S. where indicated): Muskogee Community Landfill (Muskogee, 3 miles) | Values for buffer areas (radius) for each MSW landfill and the U.S. (percentile within U.S. where indicated): Osage Landfill (Osage, 3 miles) | Values for buffer areas (radius) for each MSW landfill and the U.S. (percentile within U.S. where indicated): Quarry Landfill (Waste Management of OK) (Tulsa, 3 miles) | Values for buffer areas (radius) for each MSW landfill and the U.S. (percentile within U.S. where indicated): U.S.
Pollution Burden Indicators
Particulate matter (PM2.5), annual average | 8.97 µg/m³ (74th %ile) | 9.01 µg/m³ (75th %ile) | 9.19 µg/m³ (78th %ile) | 9.81 µg/m³ (86th %ile) | 8.88 µg/m³ (71st %ile) | 8.69 µg/m³ (66th %ile) | 9.38 µg/m³ (81st %ile) | 8.45 µg/m³ (—)
Ozone, summer seasonal average of daily 8-hour max | 58.9 ppb (42nd %ile) | 59.2 ppb (46th %ile) | 57.2 ppb (33rd %ile) | 60.8 ppb (52nd %ile) | 53.7 ppb (15th %ile) | 59.1 ppb (43rd %ile) | 59.4 ppb (44th %ile) | 61.8 ppb (—)
Traffic proximity (daily traffic count/distance to road) | 180,000 (23rd %ile) | 57,000 (13th %ile) | 45,000 (11th %ile) | 250,000 (28th %ile) | 200,000 (24th %ile) | 180,000 (24th %ile) | 680,000 (46th %ile) | 1,700,000 (—)
Lead paint (percentage pre-1960 housing) | 0.52% (75th %ile) | 0.14% (41st %ile) | 0.43% (69th %ile) | 0.045% (25th %ile) | 0.30% (58th %ile) | 0.66% (84th %ile) | 0.074% (31st %ile) | 0.30% (—)
Superfund proximity score* | 0.00 (0%ile) | 0.00 (0%ile) | 0.00 (0%ile) | 0.00 (0%ile) | 0.099 (59th %ile) | 0.99 (91st %ile) | 0.00 (0%ile) | 0.39 (—)
RMP proximity score * | 1.20 (85th %ile) | 0.22 (46th %ile) | 1.30 (86th %ile) | 0.28 (50th %ile) | 0.16 (40th %ile) | 0.95 (79th %ile) | 1.60 (90th %ile) | 0.57 (—)
Hazardous waste proximity score * | 0.00 (0%ile) | 0.13 (20th %ile) | 0.36 (29th %ile) | 0.27 (26th %ile) | 0.15 (21st %ile) | 1.00 (45th %ile) | 4.60 (77th %ile) | 3.5 (—)
Demographic Indicators
People of color population | 39% (57th %ile) | 15% (29th %ile) | 35% (53rd %ile) | 23% (40th %ile) | 53% (68th %ile) | 30% (48th %ile) | 24% (42nd %ile) | 40% (—)
Low-income population | 49% (80th %ile) | 23% (43rd %ile) | 47% (78th %ile) | 20% (37th %ile) | 55% (85th %ile) | 46% (77th %ile) | 32% (58th %ile) | 30% (—)
Linguistically isolated population | 2% (65th %ile) | 1% (57th %ile) | 1% (58th %ile) | 0% (0%ile) | 2% (64th %ile) | 1% (58th %ile) | 2% (62nd %ile) | 5% (—)
Population with less than high school education | 18% (79th %ile) | 7% (48th %ile) | 13% (69th %ile) | 9% (55th %ile) | 15% (72nd %ile) | 11% (63rd %ile) | 9% (53rd %ile) | 11% (—)
Population under 5 years of age | 7% (73rd %ile) | 4% (38th %ile) | 4% (46th %ile) | 7% (69th %ile) | 8% (75th %ile) | 8% (78th %ile) | 5% (50th %ile) | 5% (—)
Population over 64 years of age | 10% (25th %ile) | 31% (89th %ile) | 15% (46th %ile) | 12% (32nd %ile) | 17% (53rd %ile) | 15% (45th %ile) | 29% (86th %ile) | 18% (—)
* The traffic proximity and volume indicator is a score calculated by daily traffic count divided by distance in meters to the road. The Superfund proximity, RMP proximity, and hazardous waste proximity indicators are all scores calculated by site or facility counts divided by distance in kilometers.

EPA proposes to approve Oklahoma's MSW Landfills Plan, received on April 30, 2024, in accordance with section 111(d) of the CAA. The Oklahoma MSW Landfills Plan incorporates Federal requirements for MSW landfills, as specified in the MSW landfills EG at 40 CFR part 60, subpart Cf, which are also implemented under the MSW Landfills Federal Plan at 40 CFR part 62, subpart OOO. The MSW Landfills Federal Plan was implemented by EPA in Oklahoma as Oklahoma did not have an approved MSW landfills plan addressing applicable EG requirements. These EG requirements implemented under the MSW Landfills Federal Plan and now incorporated by Oklahoma in its MSW landfills plan is designed to result in significant emissions reductions for MSW landfills, as described in the Federal Registers for the MSW landfill rules (80 FR 52100; 81 FR 59276). Landfill gas is a natural byproduct of the decomposition of organic material in landfills and is composed of roughly 50% methane, 50% carbon dioxide (CO2), and less than 1% non-methane organic compounds (NMOC) by volume, which include volatile organic compounds (VOC) and various organic hazardous air pollutants (HAP).¹⁰ VOC emissions are precursors to both fine particulate matter (PM2.5) and ozone formation; exposure to PM2.5 and ozone is associated with significant public health effects, including (1) cardiovascular morbidity such as heart attacks, (2) respiratory morbidity such as asthma attacks, acute bronchitis, (3) hospital admissions and emergency room visits, and (4) premature mortality.¹¹ Hazardous air pollutants may cause cancer or other serious health effects, such as reproductive effects or birth defects.¹² In addition, methane is a potent greenhouse gas with a global warming potential 28-36 times greater than CO2. Therefore, we believe that these requirements for existing MSW landfills and resulting emissions reductions have climate benefits and have contributed to reduced environmental and health impacts on all populations impacted by emissions from these sources in Oklahoma, including communities with environmental justice concerns, and will continue to do so under Federal oversight. This proposed rule is not anticipated to have disproportionately high or adverse human health or environmental effects on communities with environmental justice concerns because it is not anticipated to result in or contribute to emissions increases in Oklahoma. If finalized as proposed, EPA's approval of the Oklahoma MSW Landfills Plan will make the Plan and the corresponding MSW landfills EG requirements incorporated into the Plan federally enforceable by EPA as of the effective date of the final rulemaking.

¹⁰ See 80 FR 52099, August 27, 2015.

¹¹ Id.

¹² See https://www.epa.gov/air-quality-management-process/managing-air-quality-human-health-environmental-and-economic#what.

VI. Statutory and Executive Order Reviews

Under the CAA, the Administrator is required to approve a CAA section 111(d) submission that complies with the provisions of the Act and applicable Federal regulations. 42 U.S.C. 7411(d); 42 U.S.C. 7429; 40 CFR part 60, subparts B and Cf; and 40 CFR part 62, subpart A. Thus, in reviewing CAA section 111(d) State plan submissions, the EPA's role is to approve State plans that meet the criteria of the CAA and implementing regulations. Accordingly, this action merely proposes to approve State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

This proposed approval of revisions to the Oklahoma 111(d) State plan in accordance with section 111(d) of the CAA as discussed more fully elsewhere in this document will apply, if finalized as proposed, to certain areas of Indian country as discussed in the preamble, and therefore has Tribal implications as specified in E.O. 13175 (65 FR 67249, November 9, 2000). However, this action will neither impose substantial direct compliance costs on federally recognized Tribal governments, nor preempt Tribal law. This action will not impose substantial direct compliance costs on federally recognized Tribal governments because no actions will be required of Tribal governments. This action will also not preempt Tribal law as no Oklahoma tribe implements a regulatory program under the CAA, and thus does not have applicable or related Tribal laws. Consistent with the EPA Policy on Consultation and Coordination with Indian Tribes (May 4, 2011), the EPA has engaged with Tribal governments that may be affected by this action and provided information about this action.

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements E.O. 12898 and defines EJ as, among other things, “the just treatment and meaningful involvement of all people, regardless of income, race, color, national origin, or Tribal affiliation, or disability in agency decision-making and other Federal activities that affect human health and the environment.”

The air agency did not evaluate EJ considerations as part of its submittal; the CAA and applicable implementing regulations neither prohibit nor require such an evaluation. EPA performed an EJ analysis, as is described in the section titled, “Environmental Justice Considerations.” The analysis was done for the purpose of providing additional context and information about this rulemaking to the public, not as a basis of the action. Due to the nature of the action being taken here, this action is expected to have a neutral to positive impact on the air quality of the affected area. In addition, there is no information in the record upon which this decision is based inconsistent with the stated goal of E.O. 12898/14096 of achieving EJ for communities with EJ concerns.

List of Subjects in 40 CFR Part 62

Environmental protection, Administrative practice and procedure, Air pollution control, Intergovernmental relations, Reporting and recordkeeping requirements, Waste treatment and disposal.

Authority: 42 U.S.C. 7401 et seq.

Dated: December 9, 2024.
Earthea Nance,
Regional Administrator, Region 6.

[FR Doc. 2024-29454 Filed 12-17-24; 8:45 am]

BILLING CODE 6560-50-P